DEPARTMENT OF HOMELAND SECURITY

Federal Emergency Management Agency

[Docket ID: FEMA-2011-0041; OMB No. 1660-0070]

Agency Information Collection Activities: Submission for OMB Review; Comment Request, National Fire Department Census

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use. This notice seeks comments concerning the use of a form to collect data for the development and continuation of the National Fire Department Census.

DATES: Comments must be submitted on or before April 30, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: National Fire Department Census.

Type of information collection: Revision of a currently approved information collection.

OMB Number: 1660-0070.

Form Titles and Numbers: FEMA Form 070-0-0-1, National Fire Department Census.

Abstract: This collection seeks to identify fire departments in the United States to compile and update a database related to their demographics, capabilities, and activities. The database is used to guide programmatic decisions and provide information to the public and the fire service.

Affected Public: State, Local, or Tribal Government.

Frequency of Response: On occasion.

Estimated Average Hour Burden per Respondent: .27 hours.

Estimated Total Annual Burden Hours: 2,342 hours.

Estimated Cost: The estimated annual cost to respondents for the hour burden is $10,539. The estimated annual cost to respondents operations and maintenance costs for technical services is $0. There are no annual start-up or capital costs. The cost to the Federal government is $85,770.

Dated: March 22, 2012.
John G. Jenkins, Jr.,
Acting Director, Records Management Division, Mission Support Bureau, Federal Emergency Management Agency, Department of Homeland Security.

[FR Doc. 2012-7565 Filed 3-28-12; 8:45 am]

BILLING CODE 9111-45-P